DEPARTMENT OF ENERGY

Federal Energy Regulatory Commission

[Docket No. CP01-21-001]

Ozark Gas Transmission, L.L.C. and Arkansas Western Pipeline, L.L.C.; Notice of Compliance Filing

February 26, 2001.

Take notice that on February 9, 2001, Ozark Gas Transmission, L.L.C. (Ozark) tendered for filing as part of its FERC Gas Tariff, Original Volume No. 1, the following revised tariff sheets, to be effective February 1, 2001:

First Revised Sheet No. 11

First Revised Sheet No. 12

Ozark further tendered for filing, as part of the Arkansas Western Pipeline; L.L.C. (AWP) FERC Gas Tariff, Second Revised Volume No. 1, the following revised tariff sheet, which reflects the cancellation of AWP's FERC Gas Tariff, to be effective February 1, 2001:

First Revised Sheet No. 1

Ozark states that the purpose of its filing is to comply with the Commission's order issued December 15, 2000, in Docket No. CP01-21-000. (Ozark Gas Transmission, 93 FERC ¶ 61,281 (2000)) In that order, the Commission directed Ozark to notify the Commission within 10 days of the effective date its acquisition by merger of its affiliate AWP and make tariff filings within 30 days of such date reflecting the acquisition in Ozark's tariff and the cancellation of AWP's tariff. Ozark's states that its acquisition of AWP occurred on February 1, 2001.

Ozark further states that it has served copies of this filing upon the company's jurisdictional customers and interested state commissions.

Any person desiring to protest said filing should file a protest with the Federal Regulatory Commission, 888 First Street, NE., Washington, DC 20426, in accordance with section 385.211 of the Commission's Rules and Regulations. All such protests must be filed on or before March 2, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5097 Filed 3-1-01; 8:45 am]

BILLING CODE 6717-01-M